DEPARTMENT OF COMMERCE

International Trade Administration

[C-351-833 and C-122-841]

Notice of Countervailing Duty Orders: Carbon and Certain Alloy Steel Wire Rod From Brazil and Canada

AGENCY: Import Administration, International Trade Administration, Department of Commerce.

ACTION: Notice of Countervailing Duty Orders: Carbon and Certain Alloy Steel Wire Rod from Brazil and Canada.

EFFECTIVE DATE: October 22, 2002.

FOR FURTHER INFORMATION CONTACT: Melani Miller (Brazil) at (202) 482-0116; and Craig Matney (Canada) at (202) 482-1778; Import Administration, International Trade Administration, U.S. Department of Commerce, 14th Street and Constitution Avenue NW., Washington, DC 20230.

Applicable Statute and Regulations

Unless otherwise indicated, all citations to the statute are references to the provisions of the Tariff Act of 1930, as amended by the Uruguay Round Agreements Act effective January 1, 1995 (“the Act”). In addition, unless otherwise indicated, all citations to the Department of Commerce's (“the Department”) regulations are to 19 CFR Part 351 (April 2002).

Scope of Orders

The merchandise covered by these orders is certain hot-rolled products of carbon steel and alloy steel, in coils, of approximately round cross section, 5.00 mm or more, but less than 19.00 mm, in solid cross-sectional diameter (“subject merchandise” or “wire rod”).

Specifically excluded are steel products possessing the above-noted physical characteristics and meeting the Harmonized Tariff Schedule of the United States (“HTSUS”) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. Grade 1080 tire cord quality rod is defined as: (i) Grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton; and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

Grade 1080 tire bead quality rod is defined as: (i) Grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products covered by these orders are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of these orders is dispositive.

Countervailing Duty Orders

On August 30, 2002, the Department published in the Federal Register its final determinations in the countervailing duty investigations of wire rod from Brazil (67 FR 55805) and Canada (67 FR 55813). Subsequently, on September 27, 2002, the Department published in the Federal Register its amended final determination in the countervailing duty investigation of wire rod from Brazil (67 FR 61071). On October 15, 2002, in accordance with section 705(d) of the Act, the U.S. International Trade Commission notified the Department that a U.S. industry is “materially injured,” within the meaning of section 705(b)(1)(A)(i) of the Act, by reason of imports of wire rod from Brazil and Canada.

Therefore, in accordance with section 706(a)(3) of the Act, on or after the date of publication of this notice in the Federal Register, Customs Service officers must require, at the same time as importers would normally deposit estimated duties, cash deposits for the subject merchandise equal to the countervailing duty rates as noted below. The “All Others” rates apply to all exporters of wire rod from Brazil and Canada not specifically listed below. The cash deposit rates are as follows:

Brazil

Producer/exporter | Net subsidy rate
Companhia Siderurgica Belgo-Mineira | 6.74 percent.
Gerdau S.A. | 2.76 percent.
All Others | 5.64 percent.

Canada:

Producer/exporter | Net subsidy rate
Ispat Sidbec, Inc. | 6.61 percent.
Stelco, Inc. | Excluded.
Ivaco, Inc. | Excluded.
All Others. | 6.61 percent.

Moreover, in accordance with section 706(a)(1) of the Act, the Department will direct the Customs Service to assess, upon further advice by the Department following the completion of a review requested under 19 CFR 351.213(b) or 19 CFR 351.214(b) (or if a review is not requested, in accordance with 19 CFR 351.212(c)), countervailing duties equal to the amount of the net countervailable subsidies determined to exist for entries of wire rod from Brazil and Canada (except for subject merchandise from Canada both produced and exported by Ivaco, Inc. (“Ivaco”) and Stelco, Inc. (“Stelco”), which both received a zero final rate).

Pursuant to section 706(a)(1) of the Act, if appropriate, based on the above-noted further advice from the Department, for all producers and exporters of wire rod from Brazil, countervailing duties will be assessed on all unliquidated entries of wire rod entered, or withdrawn from warehouse, for consumption on or after August 30, 2002, the date of publication of the Department's final determination with respect to wire rod from Brazil in the Federal Register, and on all subject merchandise entered, or withdrawn from warehouse, for consumption on or after the date of publication of this countervailing duty order for Brazil in the Federal Register.

For all producers and exporters of wire rod from Canada (except for Ivaco and Stelco), countervailing duties will be assessed on all unliquidated entries of wire rod entered, or withdrawn from warehouse, for consumption on or after February 8, 2002, the date of publication of the Department's preliminary determination in this investigation in the Federal Register, and before June 8, 2002, the date the Department instructed Customs to discontinue the suspension of liquidation in accordance with section 703(d) of the Act (see also, The Statement of Administrative Action, H. Doc. No. 103-316, Vol. 1 at 874 (1994), reprinted in 1994 U.S.C.C.A.N. 3773, 4163), and on all subject merchandise entered, or withdrawn from warehouse, for consumption on or after the date of publication of this countervailing duty order for Canada in the Federal Register.

This notice constitutes the countervailing duty orders with respect to wire rod from Brazil and Canada, pursuant to section 706(a) of the Act. Interested parties may contact the Central Records Unit, Room B-099 of the main Commerce Building, for copies of an updated list of countervailing duty orders currently in effect.

These countervailing duty orders are published in accordance with sections 706(a) and 777(i) of the Act and 19 CFR 351.211.

Dated: October 16, 2002.
Joe Spetrini,
Acting Assistant Secretary for Import Administration.

[FR Doc. 02-26859 Filed 10-21-02; 8:45 am]

BILLING CODE 3510-DS-P